DEPARTMENT OF HEALTH AND HUMAN SERVICES

Health Resources and Services Administration

Agency Information Collection Activities: Submission to OMB for Review and Approval; Public Comment Request; DATA 2000 Waiver Training Payment Program Application for Payment, OMB No. 0906-0061

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 18, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: DATA 2000 Waiver Training Payment Program Application for Payment, OMB No. 0906-0061—Revision.

Abstract: The Substance Use—Disorder Prevention that Promotes Opioid Recovery and Treatment for Patients and Communities (SUPPORT) Act (Pub. L. 115-271), section 6083, amended the Social Security Act (subsections 1834(o)(3) and 1833(bb)), authorizing the Secretary of Health and Human Services (Secretary) to pay Federally Qualified Health Centers (FQHC) and Rural Health Clinics (RHC) for the average cost of training for purposes of receiving a DATA 2000 waiver for their physicians and practitioners to furnish opioid use disorder treatment services. The SUPPORT Act made $6 million available to FQHCs and $2 million available to RHCs under the DATA 2000 Waiver Training Payment Program. To receive payment, FQHCs and RHCs must submit an application in the manner specified by the Secretary. Authority to administer the DATA 2000 program has been delegated to HRSA. Further information about the program can be found in the link below which provides guidance on the requirements of the DATA 2000 program and how qualified FQHCs and RHCs can apply to the program: https://help.hrsa.gov/display/public/EHBSKBFG/DATA+2000+Waiver+Training+Payment+Program+FAQs.

This purpose of this revision is to update the burden estimate for the RHC application process because the funding appropriated for FQHC DATA 2000 payments has been fully expended. Therefore, no new applications for FQHC DATA 2000 payments can be accepted or approved. Only Centers for Medicare & Medicaid Services certified RHCs can apply for payments through the DATA 2000 program, and pursuant to the authorizing statute and subsequent legislation eliminating the DATA 2000 waiver requirement, such RHCs may only receive payments with respect to providers who first received their DATA 2000 Waiver between January 1, 2019, and December 29, 2022.

Applicant entities must provide information identifying the submitting organization and the number of practitioners who have completed training and obtained a DATA 2000 waiver. The form will also require the entity to include information regarding each claimed practitioner's name, practitioner type (e.g., physician, physician assistant, nurse practitioner, certified nurse midwife, clinical nurse specialist, certified registered nurse, or anesthetist), National Provider Identifier number, Drug Enforcement Administration number, state license number, length of training, date the training was completed, date of waiver attainment, and DATA 2000 waiver number. Additionally, the form will require signature of an attestation statement certifying that: (1) each practitioner for which the entity is seeking payment under the application is employed by or working under contract for the applicant health facility; (2) it is the first time the entity is seeking payment on behalf of the listed practitioner(s); (3) the entity is eligible to seek payment under 42 U.S.C. 1395m(o)(3) or 42 U.S.C. 1395l(bb); (4) each practitioner is furnishing opioid use disorder treatment services; and (5) the statements herein are true, complete, and accurate to the best of the applicant's knowledge.

A 60-day notice published in the Federal Register on December 4, 2023, vol. 88, No. 231; pp. 84149-50. There were no public comments.

Need and Proposed Use of the Information: The Substance Use—Disorder Prevention that Promotes Opioid Recovery and Treatment for Patients and Communities Act requires RHCs to submit to the Secretary an application for payment at such time, in such manner, and containing such information as specified by the Secretary in order to receive a payment under section 6083. This form will allow RHCs to apply for such payments based on the average cost of training to obtain DATA 2000 waivers, as determined by the Secretary, for their physicians and practitioners to furnish opioid use disorder treatment services. The form will also provide HRSA with the requisite data to validate qualifying DATA 2000 waiver possessions for the purpose of ensuring accurate payments to RHCs.

Likely Respondents: Only Centers for Medicare & Medicaid Services certified RHCs are eligible to apply.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
DATA 2000 Waiver Training Payment Program Application for Payment | 300 | 1 | 300 | 0.5 | 150.0
Total | 300 | 1 | 300 |  | 150.0

Maria G. Button,
Director, Executive Secretariat.

[FR Doc. 2024-03092 Filed 2-14-24; 8:45 am]

BILLING CODE 4165-15-P